DEPARTMENT OF TRANSPORTATION

Federal Aviation Administration

14 CFR Part 71

[Docket No. FAA-2004-16705; Airspace Docket No. 03-AGL-20]

Modification of Class D Airspace; Mount Clemens, MI; Correction

AGENCY: Federal Aviation Administration (FAA), DOT.

ACTION: Final rule; correction.

SUMMARY: This action corrects an error contained in a final rule that was published in the Federal Register on Tuesday, August 24, 2004 (69 FR 51943). The final rule modified Class D airspace at Mount Clemens, MI.

EFFECTIVE DATE: 0901 UTC, November 25, 2004.

FOR FURTHER INFORMATION CONTACT: J. Mark Reeves, Central Service Office, Airspace Branch, AGL-520, Federal Aviation Administration, 2300 East Devon Avenue, Des Plaines, IL 60018, telephone: (847) 294-7477.

SUPPLEMENTARY INFORMATION:

History

Federal Register document 04-19376 published on Tuesday, August 24, 2004 (69 FR 51943), modified Class D airspace at Mount Clemens, MI. The coordinates for the Selfridge TACAN were left out of the legal description. This action corrects this error.

Accordingly, pursuant to the authority delegated to me, the error for the Class D airspace, Mount Clemens, MI, as published in the Federal Register Tuesday, August 24, 2004, (69 FR 51943), (FR Doc. 04-19376), is corrected as follows:

PART 71—[AMENDED]

§ 71.1 [Corrected]

On page 51943, Column 3, in the heading of the legal description after “(Lat. 42°36′03″ N., long. 82°50′14″ W.)” add:

“Selfridge TACAN

(Lat. 42°36′46″ N., long. 82°49′54″ W.)”

Issued in Des Plaines, Illinois on November 16, 2004.
Nancy B. Kort,
Area Director, Central Terminal Operations.

[FR Doc. 04-27092 Filed 12-9-04; 8:45 am]

BILLING CODE 4910-13-M